DEPARTMENT OF HEALTH AND HUMAN SERVICES

Administration for Children and Families

Tribal Consultation Meeting; Correction

AGENCY: Office of Head Start (OHS), ACF, HHS.

ACTION: Notice of meeting; correction.

SUMMARY: The Office of Head Start published a document in the Federal Register of Monday, August 13, 2012 concerning a Notice of two one-day Tribal Consultation Meetings to be held between the Department of Health and Human Services, Administration for Children and Families', Office of Head Start leadership and the leadership of Tribal Governments operating Head Start and Early Head Start programs in Region X on October 15, 2012 and October 17, 2012. This document contained incorrect supplementary information.

FOR FURTHER INFORMATION CONTACT: Ann Linehan, Deputy Director, Office of Head Start, email Ann.Linehan@acf.hhs.gov or phone (202) 205-8579. Additional information and online meeting registration is available at http://www.headstartresourcecenter.org.

Correction

In the Federal Register on August 13, 2012, in FR Doc. No: 2012-19587, on page 48159, in the third paragraph, first sentence under “Supplementary Information,” change “the Oklahoma City Consultation Session” to “these Consultation Sessions” and in the same paragraph, second sentence change “the session” to “each session.” (Corrected full paragraph below.)

SUPPLEMENTARY INFORMATION: Tribal leaders and designated representatives interested in submitting written testimony or proposing specific agenda topics for these Consultation Sessions should contact Ann Linehan at Ann.Linehan@acf.hhs.gov. Proposals must be submitted at least three days in advance of each session and should include a brief description of the topic area, along with the name and contact information of the suggested presenter.

Dated: September 4, 2012.
Yvette Sanchez Fuentes,
Director, Office of Head Start.

[FR Doc. 2012-22351 Filed 9-10-12; 8:45 am]

BILLING CODE 4184-40-P